DEPARTMENT OF ENERGY

Federal Energy Regulatory Commission

[Docket Nos. EC06-4-000 and ER06-20-000]

LG&E Energy LLC and Louisville Gas and Electric Company et al.; Notice of Filing

October 14, 2005.

Take notice that on October 7, 2005, LG&E Energy LLC, on behalf of its public utility operating company subsidiaries Louisville Gas and Electric Company and Kentucky Utilities Company (collectively, Applicants) pursuant to section 203 and 205 of the Federal Power Act and Parts 33 and 35 of the Rules of Practice and Procedures of the Commission's regulations, hereby tender for filing Commission's approval to change Applicants' method of: (1) Complying with Order Nos. 888 and 889, and certain conditions imposed by the Commission in the context of Applicants' prior mergers; and (2) achieving the goals of Order No. 2000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. eastern time on November 15, 2005.

Magalie R. Salas,
Secretary.

[FR Doc. E5-5808 Filed 10-20-05; 8:45 am]

BILLING CODE 6717-01-P